FEDERAL MARITIME COMMISSION

Sunshine Act Meeting

AGENCY HOLDING THE MEETING: Federal Maritime Commission.

PLACE: 800 North Capitol Street, NW, First Floor Hearing Room, Washington, DC.

STATUS: A portion of the meeting will be open to the public and the remainder of the meeting will be closed.

MATTERS TO BE CONSIDERED:

The Open Portion of the Meeting

1. Docket No 99-10—Ocean Common Carriers Subject to the Shipping Act of 1984

2. Carrier Automated Tariff Systems: Tariff Accessibility Audit and Issues

3. Docket No. 99-23—In the Matter of a Single Individual Contemporaneously Acting as the Qualifying Individual for Both an Ocean Freight Forwarder and a Non-Vessel-Operating Common Carrier

The Closed Portion of the Meeting

1. Status Report and Update—Docket No. 98-14—Shipping Restrictions, Requirements and Practices of the People's Republic of China

2. Docket No. 99-21—South Carolina Maritime Service, Inc. v. South Carolina State Ports Authority

CONTACT PERSON FOR MORE INFORMATION: Bryant L. VanBrakle, Secretary, (202) 523-5725.

Bryant L. VanBrakle,
Secretary

[FR Doc. 00-5348 Filed 3-1-00; 12:25 pm]

BILLING CODE 6730-01-M